DEPARTMENT OF TRANSPORTATION

Office of the Secretary

Aviation Proceedings, Agreements Filed the Week Ending June 13, 2003

The following Agreements were filed with the Department of Transportation under the provisions of 49 U.S.C. 412 and 414. Answers may be filed within 21 days after the filing of the application.

Docket Number: OST-2003-15390.

Date Filed: June 10, 2003.

Parties: Members of the International Air Transport Association.

Subject: CAC/31/Meet/005/03 dated 13 May 2003, Expedited Resolution 801r, Intended effective date: 1 July 2003.

Docket Number: OST-2003-15391.

Date Filed: June 10, 2003.

Parties: Members of the International Air Transport Association.

Subject: CAC/31/Meet/006/03 dated 30 May 2003, Finally Adopted Resolutions r1-r8, Minutes—CAC/31/Meet/004/03 dated 8 May 2003, Intended effective date: 1 October 2003.

Docket Number: OST-2003-15416.

Date Filed: June 13, 2003.

Parties: Members of the International Air Transport Association.

Subject: Mail Vote 303, PTC2 EUR-ME 0165 dated 17 June 2003, PTC2 EUR-AFR 0179 dated 17 June 2003, TC2 Europe-Middle East-Africa, Special Passenger Amending Resolution 010q, from Algeria to Middle East, Africa, Intended effective date: 1 July 2003.

Docket Number: OST-2003-15417.

Date Filed: June 13, 2003.

Parties: Members of the International Air Transport Association.

Subject: Mail Vote 306, PTC COMP 1060 dated 13 June 2003, General Increase Resolution 002i, between USA/US Territories and Austria, Chile, Czech Republic, Finland, France (including French Guiana, French Polynesia, Guadeloupe, Martinique, New Caledonia, Reunion, Saint Pierre and Miquelon), Germany, Iceland, Italy, Korea (Rep. of), Malaysia, Netherlands, New Zealand, Panama, Scandinavia, Switzerland, Intended effective date: 1 July 2003.

Dorothy Y. Beard,
Chief, Docket Operations & Media Management, Federal Register Liaison.

[FR Doc. 03-15784 Filed 6-20-03; 8:45 am]

BILLING CODE 4910-62-P